DEPARTMENT OF THE INTERIOR

National Park Service

[NPS-WASO-NAGPRA-NPS0037172; PPWOCRADN0-PCU00RP14.R50000]

Notice of Intent To Repatriate Cultural Items: Yale University Art Gallery, New Haven, CT

AGENCY: National Park Service, Interior.

ACTION: Notice.

SUMMARY: In accordance with the Native American Graves Protection and Repatriation Act (NAGPRA), the Yale University Art Gallery (YUAG) intends to repatriate certain cultural items that meet the definition of unassociated funerary objects and that have a cultural affiliation with the Indian Tribes or Native Hawaiian organizations in this notice. The cultural items were removed from Elmore County and Macon County, AL.

DATES: Repatriation of the cultural items in this notice may occur on or after February 2, 2024.

ADDRESSES: Stephanie Wiles, Director, Yale University Art Gallery, 1111 Chapel Street, New Haven, CT 06510, telephone (203) 432-7802, email stephanie.wiles@yale.edu.

SUPPLEMENTARY INFORMATION: This notice is published as part of the National Park Service's administrative responsibilities under NAGPRA. The determinations in this notice are the sole responsibility of YUAG. The National Park Service is not responsible for the determinations in this notice. Additional information on the determinations in this notice, including the results of consultation, can be found in the summary or related records held by YUAG.

Description

Eight lots of cultural items were probably removed from several locations in Elmore County and Macon County, AL, by Peter A. Brannon, most likely between 1909 and 1934. Brannon was employed at the Alabama Department of Archives and History and donated the cultural items to YUAG in 1935. Of the eight lots of unassociated funerary objects, seven were probably removed from Elmore County and include 171 ceramic and glass beads from the Upper Creek Town Fusihatchi. Three bronze ornaments and 106 glass and ceramic beads were probably removed from the Upper Creek Town Huithlewalli. Three metal ring fragments and 224 glass beads were probably removed from Tallapoosa Swamp at Fort Toulouse. Forty-five glass and ceramic beads were probably removed from the Tallapoosa River area. One lot of 1,000 glass beads was probably removed from the Upper Creek Town Thlopthlocco (Laplako) in Macon County.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, and geographical information.

Determinations

Pursuant to NAGPRA and its implementing regulations, and after consultation with the appropriate Indian Tribes, YUAG has determined that:

• The eight lots of cultural items described above are reasonably believed to have been placed with or near individual human remains at the time of death or later as part of the death rite or ceremony and are believed, by a preponderance of the evidence, to have been removed from specific burial sites of Native American individuals.

• There is a relationship of shared group identity that can be reasonably traced between the cultural items and The Muscogee (Creek) Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 2, 2024. If competing requests for repatriation are received, YUAG must determine the most appropriate requestor prior to repatriation. Requests for joint repatriation of the cultural items are considered a single request and not competing requests. YUAG is responsible for sending a copy of this notice to the Indian Tribe identified in this notice.

Authority: Native American Graves Protection and Repatriation Act, 25 U.S.C. 3004, and the implementing regulations, 43 CFR 10.8, 10.10, and 10.14.

Dated: December 20, 2023.
Melanie O'Brien,
Manager, National NAGPRA Program.

[FR Doc. 2023-28927 Filed 1-2-24; 8:45 am]

BILLING CODE 4312-52-P